DEPARTMENT OF ENERGY

Federal Energy Regulatory Commission

Information Collection Submitted for Review and Request for Comments (IC01-521-001 FERC-521)

January 11, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Pub. L. 104-13). Any interested person may file comments on the collection of information directly with OMB and should address a copy of those comments to the Commission as explained below. The Commission received no comments in response to an earlier Federal Register notice of October 9, 2001 (66 FR 51416). The Commission has noted this fact in its submission to OMB.

DATES: Comments regarding this collection of information are best assured of having their full effect if received on or before February 19, 2002.

ADDRESSES: Address comments to Office of Management and Budget, Office of Information and Regulatory Affairs, Attention: Federal Energy Regulatory Commission, Desk Officer, 725 17th Street, NW., Washington, D.C. 20503. A copy of the comments should also be sent to Federal Energy Regulatory Commission, Office of the Chief Information Officer, Attention: Mr. Michael Miller, 888 First Street NE, Washington, D.C. 20426.

FOR FURTHER INFORMATION CONTACT: Michael Miller may be reached by telephone at (202)208-1415, by fax at (202)208-2425, and by e-mail: mike.miller@ferc.fed.us.

SUPPLEMENTARY INFORMATION:

Description

The energy information collection submitted to OMB for review contains:

1. Collection of Information: FERC-521 “Headwaters Benefits”

2. Sponsor: Federal Energy Regulatory Commission

3. Control No.: OMB No. 1902-0087. The Commission is now requesting that OMB approve a three-year extension of the current expiration date, with no changes to the existing collection. This is a mandatory information collection requirement.

4. Necessity of Collection of Information: Submission of the information is necessary to fulfill the requirements of Section 10(f) of the Federal Power Act (FPA). The reporting requirements associated with FERC-521 are codified at 18 CFR Part 11 of the Commission's regulations.

FERC-521 implements the Commission's regulations for the determination of headwater benefits derived by downstream parties. The regulations set forth a formula for determining an equitable apportionment of the annual charges for interest, maintenance, and depreciation for a storage reservoir or other headwater improvement owned by the United States, a licensee, or pre-1920 permittee. Headwater benefits are the additional energy production possible at a downstream hydropower project. Under Section 10(f) of the Federal Power Act, an owner of a hydropower project is required to reimburse upstream headwater project owners for an equitable part of the benefits it receives. This includes paying equitable portions of annual charges for interest, maintenance, and depreciation of the headwater project to the U.S. Treasury.

The Commissions regulations provide for apportionment of the costs between the headwater project and down-stream projects based on downstream energy gains and propose equitable apportionment methodology that can be applied to all river basins in which headwater improvements are built. In determining energy gains, the size and efficiency of the turbines and their generators, and the load to be served will remain constant, while streamflow, reservoir storage, and head will vary depending on the operating conditions of the upstream reservoirs. Because head and streamflow determine the amount of energy produced at the hydropower project, a relationship that the generation is a function of the head and streamflow can be developed. Commission experience has shown that the relationship between generation and streamflow is an adequate tool for estimating generation in calculating energy gains. The information submitted enables the Commission to carry out its responsibilities in implementing the statutory provisions of the FPA.

Respondent Description: The respondent universe currently comprises on average, five entities subject to the Commission's jurisdiction.

6. Estimated Burden: 200 total burden hours, five respondents, one response annually, 40 hours per response (average).

7. Estimated Cost Burden to Respondents: 200 hours ÷ 2,080 hours per year × $117,041 per year = $11,254, average cost per respondent = $2,250.

Statutory Authority: Section 10(f) of the Federal Power Act (16 U.S.C. 803).

C.B. Spencer,
Acting Secretary.

[FR Doc. 02-1229 Filed 1-16-02; 8:45 am]

BILLING CODE 6717-01-U